DEPARTMENT OF LABOR

Occupational Safety and Health Administration

29 CFR Parts 1902, 1903, 1904, 1952, 1953, 1954, 1955, and 1956

[Docket No. OSHA-2014-0009]

RIN 1218-AC76

Streamlining of Provisions on State Plans for Occupational Safety and Health

AGENCY: Occupational Safety and Health Administration (OSHA), Department of Labor.

ACTION: Final rule; confirmation of effective date; approval of collections of information under the Paperwork Reduction Act of 1995.

SUMMARY: On August 18, 2015 OSHA published in the Federal Register a direct final rule that streamlined provisions on State Plans. OSHA stated in that document that it would withdraw the companion proposed rule and confirm the effective date of the final rule if the Agency received no significant adverse comments on the direct final rule or the proposal. Since OSHA received no comments on the direct final rule or the proposal, the Agency now confirms that the direct final rule became effective as a final rule on October 19, 2015. The proposed rule and the direct final rule also requested comments on the collections of information contained in State Plan regulations under the Paperwork Reduction Act of 1995. The Office of Management and Budget (OMB) approved those collections of information.

DATES: The effective date for the direct final rule that published on August 18, 2015 (80 FR49897) is confirmed as October 19, 2015.

ADDRESSES: Electronic copies of this Federal Register notice are available at http://www.regulations.gov. This Federal Register notice, as well as news releases and other relevant information, also are available at OSHA's Web page at http://www.osha.gov.

FOR FURTHER INFORMATION CONTACT: For press inquiries: Francis Meilinger, Director, OSHA Office of Communications, Room N-3647, U.S. Department of Labor, 200 Constitution Avenue NW., Washington, DC 20210; telephone: (202) 693-1999; email: meilinger.francis2@dol.gov.

For general and technical information: Douglas J. Kalinowski, Director, OSHA Directorate of Cooperative and State Programs, Room N-3700, U.S. Department of Labor, 200 Constitution Avenue NW., Washington, DC 20210; telephone: (202) 693-2200; email: kalinowski.doug@dol.gov.

SUPPLEMENTARY INFORMATION: Confirmation of the effective date: On August 18, 2015, OSHA published a direct final rule in the Federal Register amending OSHA regulations to remove the detailed descriptions of State Plan coverage, purely historical data, and other unnecessarily codified information. In addition, this document moved most of the general provisions of subpart A of part 1952 into part 1902, where the general regulations on State Plan criteria are found. It also amended several other OSHA regulations to delete references to part 1952, which will no longer apply. A companion proposed rule was also published on that date.

In the direct final rule, OSHA stated that it would publish a Federal Register document confirming the effective date of the direct final rule and withdraw the proposed rule if it received no significant adverse comments on the direct final rule or the proposal. OSHA received no comments on the direct final rule or the proposed rule. Accordingly, OSHA is confirming the effective date of the direct final rule and the proposed rule is withdrawn.

Approval of collections of information: The proposed rule and the direct final rule also contained a request for comments on an Information Collection Request under the Paperwork Reduction Act of 1995 (PRA), which covers all collections of information in OSHA State Plan regulations. OMB received no comments. OMB has approved the revised collections of information and is retaining OMB control number 1218-0247 for these requirements. The expiration date for the approval is April 30, 2016.

List of Subjects in 29 CFR Parts 1902, 1903, 1904, 1952, 1953, 1954, 1955, and 1956

Intergovernmental relations, Law enforcement, Occupational safety and health.

Authority and Signature

David Michaels, Ph.D., MPH, Assistant Secretary of Labor for Occupational Safety and Health, U.S. Department of Labor, 200 Constitution Avenue NW., Washington, DC 20210, authorized the preparation of this final rule. OSHA is issuing this direct final rule under the authority specified by Sections 8(c)(1), 8(c)(2), and 8(g)(2) and 18 of the Occupational Safety and Health Act of 1970 (29 U.S.C. 657 (c)(1), (c)(2), and (g)(2) and 667) and Secretary of Labor's Order No. 1-2012 (76 FR 3912).

Signed at Washington, DC, on December 11, 2015.
David Michaels,
Assistant Secretary of Labor for Occupational Safety and Health.

[FR Doc. 2015-31878 Filed 12-17-15; 8:45 am]

BILLING CODE 4510-26-P